DEPARTMENT OF EDUCATION

34 CFR Chapter II

[Docket ID ED-2019-OPEPD-0120]

Administrative Priorities for Discretionary Grant Programs

AGENCY: Department of Education.

ACTION: Proposed priorities.

SUMMARY: The Secretary of Education proposes to establish six priorities for discretionary grant programs that would expand the Department of Education's (the Department's) flexibility to give priority to a broader range of applicants with varying experience in administering Federal education funds (Proposed Priorities 1 and 2), applicants proposing to serve rural communities (Proposed Priorities 3 and 4), applicants that demonstrate a rationale for their proposed projects (Proposed Priority 5), or applicants proposing to collect data after the grant's original project period (Proposed Priority 6).

DATES: We must receive your comments on or before December 30, 2019.

ADDRESSES: Submit your comments through the Federal eRulemaking Portal or via postal mail, commercial delivery, or hand delivery. We will not accept comments submitted by fax or by email or those submitted after the comment period. To ensure that we do not receive duplicate copies, please submit your comments only once. In addition, please include the Docket ID at the top of your comments.

• Federal eRulemaking Portal: Go to www.regulations.gov to submit your comments electronically. Information on using Regulations.gov, including instructions for accessing agency documents, submitting comments, and viewing the docket, is available on the site under “Help.”

• Postal Mail, Commercial Delivery, or Hand Delivery: If you mail or deliver your comments about the proposed priorities, address them to Kelly Terpak, U.S. Department of Education, 400 Maryland Avenue SW, Room 4W312, Washington, DC 20202.

Privacy Note: The Department's policy is to make all comments received from members of the public available for public viewing in their entirety on the Federal eRulemaking Portal at www.regulations.gov. Therefore, commenters should be careful to include in their comments only information that they wish to make publicly available.

FOR FURTHER INFORMATION CONTACT: Kelly Terpak, U.S. Department of Education, 400 Maryland Avenue SW, Room 4W312, Washington, DC 20202. Telephone: (202) 205-5231. Email: kelly.terpak@ed.gov.

If you use a telecommunications device for the deaf (TDD) or a text telephone (TTY), call the Federal Relay Service (FRS), toll-free, at 1-800-877-8339.

SUPPLEMENTARY INFORMATION: Invitation to Comment: We invite you to submit comments regarding the proposed priorities. To ensure that your comments have maximum effect in developing the notice of final priorities, we urge you to identify clearly the specific proposed priority that each comment addresses.

We invite you to assist us in complying with the specific requirements of Executive Orders 12866, 13563, and 13771 and their overall requirement of reducing regulatory burden that might result from the proposed priorities. Please let us know of any further ways we could reduce potential costs or increase potential benefits while preserving the effective and efficient administration of our programs.

During and after the comment period, you may inspect all public comments about the proposed priorities in 400 Maryland Avenue SW, Room 4W312, Washington, DC, between the hours of 8:30 a.m. and 4:00 p.m., Eastern time, Monday through Friday of each week except Federal holidays.

Assistance to Individuals with Disabilities in Reviewing the Rulemaking Record: On request we will provide an appropriate accommodation or auxiliary aid to an individual with a disability who needs assistance to review the comments or other documents in the public rulemaking record for the proposed priorities. If you want to schedule an appointment for this type of accommodation or auxiliary aid, please contact the person listed under FOR FURTHER INFORMATION CONTACT.

Program Authority: 20 U.S.C. 1221e-3.

Proposed Priorities

This document contains six proposed priorities. The Department seeks to expand the range of applicants benefiting from Federal funding, in part to promote greater innovation, and we believe the proposed priorities for new potential grantees and applicants proposing to serve rural communities would help the Department meet this goal. To operationalize these priorities, the Department may choose to use multiple absolute priorities to create separate funding slates for applicants that are new potential grantees compared with those that are not or for applicants that propose to serve rural communities compared with applicants that do not. Accordingly, the Department seeks to establish priorities that define the inverse populations and would only be used in conjunction with the priorities for new potential grantees or rural applicants. The Department also recognizes the importance of developing evidence for effective education interventions and strategies, particularly in areas where the existing evidence base is thin or non-existent. We propose a priority for applicants that demonstrate a rationale for their projects and a priority for applicants proposing to collect data after the grant project period.

Proposed Priority 1—Applications From New Potential Grantees

Background: The Department believes that our programs will best serve students across the country if a broader range of entities can compete on a level playing field for grants, including entities that have not typically participated in our grant programs. Under 34 CFR 75.225, the Department has been able to prioritize applicants that have never received funding under a particular program and have not received any Federal grants in the past five years. However, the definition for “novice applicant” in 34 CFR 75.225 is too restrictive for most of the Department's grant programs and frequently does not benefit many applicants. Some programs have created program-specific definitions that are tailored to their individual contexts to address this issue, highlighting the fact that 34 CFR 75.225 does not work in all contexts. We believe that this proposed priority defines “new potential grantee” more flexibly than 34 CFR 75.225 currently defines “novice applicant,” and more discretionary grant programs will be able to use it. The proposed priority would more effectively promote the Department's interest in awarding grants to a wider variety of applicants while also streamlining our work, because discretionary grant programs would no longer need to create their own program-specific priorities in order to encourage new entities to apply for grants. A grant program would be able to choose any of the elements identified that most appropriately defines a new potential grantee for the given program, specifying in the notice inviting applications (NIA) for that program which portions of this priority apply. We believe that establishing this priority is the most efficient way to ensure a level playing field for new potential grantees and to provide needed flexibility for programs in encouraging new potential grantees to apply. The Department would not use this proposed priority for any grant programs that, by statute, prohibit its use.

Proposed Priority:

(a) Under this priority, an applicant must demonstrate one or more of the following:

(i) The applicant has never received a grant, including through membership in a group application submitted in accordance with 34 CFR 75.127-75.129, under the program from which it seeks funds.

(ii) The applicant does not, as of the deadline date for submission of applications, have an active grant, including through membership in a group application submitted in accordance with 34 CFR 75.127-75.129, under the program from which it seeks funds.

(iii) The applicant has not had an active discretionary grant under the program from which it seeks funds, including through membership in a group application submitted in accordance with 34 CFR 75.127-75.129, in the number of years stated in the notice inviting applications before the deadline date for submission of applications under the program.

(iv) The applicant has not had an active discretionary grant from the Department, including through membership in a group application submitted in accordance with 34 CFR 75.127-75.129, in the number of years stated in the notice inviting applications before the deadline date for submission of applications under the program from which it seeks funds.

(v) The applicant has not had an active contract from the Department in the number of years stated in the notice inviting applications before the deadline date for submission of applications under the program for which it seeks funds.

(b) For the purpose of this priority, a grant or contract is active until the end of the grant's or contract's project or funding period, including any extensions of those periods that extend the grantee's or contractor's authority to obligate funds.

Proposed Priority 2—Applications From Grantees That Are Not New Potential Grantees

Background: As described above, the Department believes that our programs will best serve students across the country if our grants benefit a broad range of entities. One way of operationalizing this goal is to create multiple funding slates using multiple absolute priorities. Accordingly, the Department proposes to establish a priority that would serve as the inverse of Proposed Priority 1. Using both priorities, a program could include all eligible entities but allow for different funding slates, which provides the flexibility for the Department to evaluate applicants on each separate slate against only the other applicants on that slate. A grant program would use the elements that most appropriately define a grantee that is not a new potential grantee for a given program, specifying in the NIA for that program which portions of this priority apply. We believe that establishing this priority is the most efficient way to provide needed flexibility for programs in encouraging applications from the broadest possible range of eligible applicants. The Department would not use this proposed priority for any grant programs that, by statute, prohibit its use.

Proposed Priority:

(a) Under this priority, an applicant must demonstrate one or more of the following:

(i) The applicant has received a grant, including through membership in a group application submitted in accordance with 34 CFR 75.127-75.129, under the program from which it seeks funds.

(ii) The applicant has, as of the deadline date for submission of applications, an active grant, including through membership in a group application submitted in accordance with 34 CFR 75.127-75.129, under the program from which it seeks funds.

(iii) The applicant has had an active discretionary grant under the program from which it seeks funds, including through membership in a group application submitted in accordance with 34 CFR 75.127-75.129, in the number of years stated in the notice inviting applications before the deadline date for submission of applications under the program.

(iv) The applicant has had an active discretionary grant from the Department, including through membership in a group application submitted in accordance with 34 CFR 75.127-75.129, in the number of years stated in the notice inviting applications before the deadline date for submission of applications under the program from which it seeks funds.

(v) The applicant has had an active contract from the Department in the number of years stated in the notice inviting applications before the deadline date for submission of applications under the program for which it seeks funds.

(b) For the purpose of this priority, a grant or contract is active until the end of the grant's or contract's project or funding period, including any extensions of those periods that extend the grantee's or contractor's authority to obligate funds.

(c) This priority can only be used in competitions where the priority for Applications from New Potential Grantees is used.

Proposed Priority 3—Rural Applicants

Background:

Rural communities face unique challenges and have unique opportunities. These factors are reflected in the statutory priority accorded to applicants that serve rural communities in many Department programs, but the Department believes that it is appropriate for it to have the option to give priority to applicants that will serve rural communities under any of its discretionary grant programs. In addition, some rural districts receive very small allocations under the Department's formula grant programs that may have limited impact. For these reasons, the Department strongly believes that new authority to specifically encourage applications that will provide services in rural communities is essential to more equitable administration of Federal education programs.

Proposed Priority:

Under this priority, an applicant must demonstrate one or more of the following:

(a) The applicant proposes to serve a local educational agency (LEA) that is eligible under the Small Rural School Achievement (SRSA) program or the Rural and Low-Income School (RLIS) program authorized under Title V, Part B of the Elementary and Secondary Education Act of 1965, as amended.

(b) The applicant proposes to serve a community that is served by one or more LEAs—

(i) With a locale code of 32, 33, 41, 42, or 43; or

(ii) With a locale code of 41, 42, or 43.

(c) The applicant proposes a project in which a majority of the schools served—

(i) Have a locale code of 32, 33, 41, 42, or 43; or

(ii) Have a locale code of 41, 42, or 43.

(d) The applicant is an institution of higher education (IHE) with a rural campus setting, or the applicant proposes to serve a campus with a rural setting. Rural settings include any of the following: Town-Fringe, Town-Distant, Town-Remote, Rural Fringe, Rural-Distant, Rural-Remote, as defined by the National Center for Education Statistics (NCES) College Navigator search tool.

Note: To determine whether a particular LEA is eligible for SRSA or RLIS, refer to the Department's website at https://www2.ed.gov/nclb/freedom/local/reap.html. Applicants are encouraged to retrieve locale codes from the NCES School District search tool (https://nces.ed.gov/ccd/districtsearch/), where LEAs can be looked up individually to retrieve locale codes, and Public School search tool (https://nces.ed.gov/ccd/schoolsearch/), where individual schools can be looked up to retrieve locale codes. Applicants are encouraged to retrieve campus settings from the NCES College Navigator search tool (https://nces.ed.gov/collegenavigator/) where IHEs can be looked up individually to determine the campus setting.

Proposed Priority 4—Non-Rural Applicants

Background: As described above, the Department believes that our programs will best serve students across the country if our grants benefit a broad range of entities. One way of operationalizing this goal is to create multiple funding slates using multiple absolute priorities. Accordingly, the Department proposes to establish a priority that would serve as the inverse of Proposed Priority 3. Using both priorities, a program could include all eligible entities but allow for different funding slates, which provides the flexibility for the Department to evaluate applicants on each separate slate against only the other applicants on that slate. A grant program would use the elements that most appropriately define a grantee that is not a rural applicant for a given program, specifying in the NIA for that program which portions of this priority apply. We believe that establishing this priority is the most efficient way to provide needed flexibility for programs in encouraging applications from the broadest possible range of eligible applicants. The Department would not use this proposed priority for any grant programs that, by statute, prohibit its use.

Proposed Priority:

Under this priority, an applicant must demonstrate one or more of the following:

(a) The applicant does not propose to serve a local educational agency (LEA) that is eligible under the Small Rural School Achievement (SRSA) program or the Rural and Low-Income School (RLIS) program authorized under Title V, Part B of the Elementary and Secondary Education Act of 1965, as amended.

(b) The applicant does not propose to serve a community that is served by one or more LEAs—

(i) With a locale code of 32, 33, 41, 42, or 43; or

(ii) With a locale code of 41, 42, or 43.

(c) The applicant does not propose a project in which a majority of the schools served—

(i) Have a locale code of 32, 33, 41, 42, or 43; or

(ii) Have a locale code of 41, 42, or 43.

(d) The applicant is not an institution of higher education (IHE) with a rural campus setting, or the applicant proposes to serve a campus with a rural setting. Rural settings include any of the following: Town-Fringe, Town-Distant, Town-Remote, Rural Fringe, Rural-Distant, Rural-Remote, as defined by the National Center for Education Statistics (NCES) College Navigator search tool.

(e) This priority can only be used in competitions where the priority for Rural Applicants is used.

Note: To determine whether a particular LEA is eligible for SRSA or RLIS, refer to the Department's website at https://www2.ed.gov/nclb/freedom/local/reap.html. Applicants are encouraged to retrieve locale codes from the NCES School District search tool (https://nces.ed.gov/ccd/districtsearch/), where LEAs can be looked up individually to retrieve locale codes, and Public School search tool (https://nces.ed.gov/ccd/schoolsearch/), where individual schools can be looked up to retrieve locale codes. Applicants are encouraged to retrieve campus settings from the NCES College Navigator search tool (https://nces.ed.gov/collegenavigator/) where IHEs can be looked up individually to determine the campus setting.

Proposed Priority 5—Applications That Demonstrate a Rationale in the Project's Logic Model

Background:

Consistent with 34 CFR 77.1, a project demonstrates a rationale if a key project component included in the project's logic model is informed by research or evaluation findings that suggest the project component is likely to improve relevant outcomes. Logic models describe the need for a program, its inputs and outputs, and the intended outcomes. Logic models are helpful tools for applicants to use when establishing timelines and resource needs. They also are helpful to the Department and reviewers in understanding the applicant's rationale for how its proposed project will achieve the project outcomes. Finally, the requirement that a key project component identified in the logic model be informed by research and evaluation findings that suggest it is likely to improve relevant outcomes establishes a standard of evidence that should improve the overall quality of funded applications. As such, the Department may choose to prioritize applications that demonstrate a rationale through the use of a logic model to support project planning and implementation. In addition, we believe this proposed priority would allow us to focus Federal dollars on evidence-based proposals, even for programs where the relevant evidence base is relatively nascent.

Proposed Priority:

Under this priority, an applicant proposes a project that demonstrates a rationale (as defined in 34 CFR 77.1).

Proposed Priority 6—Data Collection

Background:

With the recent passage of the Foundations for Evidence-Based Policymaking Act of 2018 (Pub. L. 115-435), along with Strategy 3: Decision-Making and Accountability of the 2018 President's Management Agenda (performance.gov/PMA), Congress and the President have signaled an active interest in having the Federal government collect more comprehensive performance data in order to support policy decisions informed by a strong body of evidence. Accordingly, the Department is particularly interested in collecting outcomes data from grantees after the end of the project period of a grant, assuming availability of funds. By requiring or encouraging applicants to collect data, the Department hopes to further expand the evidence base for existing grant programs and report more comprehensive outcomes data to Congress and the public. To address the proposed priority, an applicant would include in its application a budget for and a description of its proposed post-project data collection efforts, which would be funded by the Department under 34 CFR 75.250(b).

Proposed Priority: Under this priority, an applicant includes a data collection period after the conclusion of the grant project period, for a period of time to be specified in the notice inviting applications, consistent with 34 CFR 75.250(b).

Types of Priorities: When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority we are particularly interested in applications that meet the priority. However, we do not give an application that meets the priority a preference over other applications (34 CFR 75.105(c)(1)).

Final Priorities: We will announce the final priorities in a notice in the Federal Register. We will determine the final priorities after considering responses to the proposed priorities and other information available to the Department. This notice does not preclude us from proposing additional priorities, requirements, definitions, or selection criteria, subject to meeting applicable rulemaking requirements.

Note: This notice does not solicit applications. In any year in which we choose to use one or more of these priorities, we invite applications through a notice in the Federal Register.

Executive Orders 12866, 13563, and 13771

Regulatory Impact Analysis

Under Executive Order 12866, it must be determined whether this regulatory action is “significant” and, therefore, subject to the requirements of the Executive order and subject to review by the Office of Management and Budget (OMB). Section 3(f) of Executive Order 12866 defines a “significant regulatory action” as an action likely to result in a rule that may—

(1) Have an annual effect on the economy of $100 million or more, or adversely affect a sector of the economy, productivity, competition, jobs, the environment, public health or safety, or State, local, or Tribal governments or communities in a material way (also referred to as an “economically significant” rule);

(2) Create serious inconsistency or otherwise interfere with an action taken or planned by another agency;

(3) Materially alter the budgetary impacts of entitlement grants, user fees, or loan programs or the rights and obligations of recipients thereof; or

(4) Raise novel legal or policy issues arising out of legal mandates, the President's priorities, or the principles stated in the Executive order.

This proposed regulatory action is not a significant regulatory action subject to review by OMB under section 3(f)(4) of Executive Order 12866.

Under Executive Order 13771, for each new regulation that the Department proposes for notice and comment or otherwise promulgates that is a significant regulatory action under Executive Order 12866, and that imposes total costs greater than zero, it must identify two deregulatory actions. For FY 2020, any new incremental costs associated with a new regulation must be fully offset by the elimination of existing costs through deregulatory actions. However, Executive Order 13771 does not apply to “transfer rules” that cause only income transfers between taxpayers and program beneficiaries, such as those regarding discretionary grant programs. Because the proposed priorities would be used in connection with one or more discretionary grant programs, Executive Order 13771 does not apply.

We have also reviewed these proposed regulations under Executive Order 13563, which supplements and explicitly reaffirms the principles, structures, and definitions governing regulatory review established in Executive Order 12866. To the extent permitted by law, Executive Order 13563 requires that an agency—

(1) Propose or adopt regulations only on a reasoned determination that their benefits justify their costs (recognizing that some benefits and costs are difficult to quantify);

(2) Tailor its regulations to impose the least burden on society, consistent with obtaining regulatory objectives and taking into account—among other things and to the extent practicable—the costs of cumulative regulations;

(3) In choosing among alternative regulatory approaches, select those approaches that maximize net benefits (including potential economic, environmental, public health and safety, and other advantages; distributive impacts; and equity);

(4) To the extent feasible, specify performance objectives, rather than the behavior or manner of compliance a regulated entity must adopt; and

(5) Identify and assess available alternatives to direct regulation, including economic incentives—such as user fees or marketable permits—to encourage the desired behavior, or provide information that enables the public to make choices.

Executive Order 13563 also requires an agency “to use the best available techniques to quantify anticipated present and future benefits and costs as accurately as possible.” The Office of Information and Regulatory Affairs of OMB has emphasized that these techniques may include “identifying changing future compliance costs that might result from technological innovation or anticipated behavioral changes.”

We issue these proposed priorities only on a reasoned determination that their benefits would justify their costs. In choosing among alternative regulatory approaches, we selected those approaches that would maximize net benefits. Based on an analysis of anticipated costs and benefits, we believe that these proposed regulations are consistent with the principles in Executive Order 13563.

We also have determined that this regulatory action does not unduly interfere with State, local, and Tribal governments in the exercise of their governmental functions.

Potential Costs and Benefits

We have reviewed the proposed priorities in accordance with Executive Order 12866 and do not believe that these priorities would generate a considerable increase in burden. We believe any additional costs imposed by the proposed priorities would be negligible, primarily because they would create new opportunities to prioritize applicants that may have submitted applications regardless of these changes, changes that do not impose additional burden. Moreover, we believe any costs will be significantly outweighed by the potential benefits of making funding opportunities increasingly available to the widest possible field of applicants and the benefits of expanding the research base. In addition, generally, participation in a discretionary grant program is entirely voluntary; as a result, these proposed priorities do not impose any particular burden except when an entity voluntarily elects to apply for a grant.

Proposed priority 1 would give the Department the opportunity to prioritize a “new potential grantee” with greater flexibility than is currently available through existing methods of giving special consideration to “novice applicants.” We believe that this proposed priority could result in a number of changes in the behavior of both Department staff and applicants. First, we believe that the additional flexibility in the new definition would increase the number of competitions in which we prioritize a “new potential grantee.” Second, we believe that it could result in additional applicants submitting applications for competitions that include such a priority. Finally, we believe that the proposed priority could shift at least some of the Department's grants among eligible entities. However, because this proposed priority, in conjunction with Proposed Priority 2, would neither expand nor restrict the universe of eligible entities for any Department grant program, and since application submission and participation in our discretionary grant programs is voluntary, we do not think that it would be appropriate to characterize any increased participation in our grant competitions as costs associated with this priority.

Proposed Priority 2, as the inverse of Proposed Priority 1, would similarly not create costs or benefits, but may have the result of shifting at least some of the Department's grants among eligible entities. Again, since application submission and participation in our discretionary grant programs is voluntary, we do not think that it would be appropriate to characterize any increased participation or differences in which entities receive awards as costs associated with this priority.

Similarly, Proposed Priority 3 would give the Department the opportunity to prioritize rural applicants. We believe that this proposed priority could result in changes in the behavior of both Department staff and applicants similar to those described above with respect to proposed priority 1. First, we believe that the availability of a priority related to supporting rural communities will increase the number of competitions in which we prioritize rural applicants, since a program could use this priority without going through program-specific rulemaking. Second, we believe that it may result in additional applicants submitting applications for competitions that include such a priority. Finally, we believe that the proposed priority could shift at least some of the Department's grants among eligible entities. However, because this proposed priority would neither expand nor restrict the universe of eligible entities for any Department grant program, and since application submission and participation in our discretionary grant programs is voluntary, we do not think that it would be appropriate to characterize any increased participation in our grant competitions as costs associated with this priority.

Similar to Proposes Priority 2, Proposed Priority 4, as the inverse of Proposed Priority 3, would not create costs or benefits. Instead, Proposed Priorities 3 and 4 may have the result of shifting at least some of the Department's grants among eligible entities. Again, since application submission and participation in our discretionary grant programs is voluntary, we do not think that it would be appropriate to characterize any increased participation or differences in which entities receive awards as costs associated with this priority.

The combined benefits of Proposed Priorities 1, 2, 3 and 4 could be an increased diversity of awardees. To the extent a program helps build the evidence base on a particular action or approach, such as through Proposed Priorities 5 and 6, there may be a benefit in the form of broadened information about the evidence on the grantee's approach in the grantee's setting. However, it is not possible to quantify the extent of such a benefit without knowing which programs will use these priorities and in what circumstances.

Proposed priority 5 would allow the Secretary to require applicants to submit a logic model, which is unlikely to generate any quantifiable costs or benefits but may result in qualitative benefits if grantees use the logic model to better plan and more clearly communicate the intended effects of the project. Many grant competitions already include this requirement and, to the extent it is included in additional competitions in the future, we do not believe that it would create a substantial burden for applicants, because we assume that applicants in those programs would likely already have conceptualized an implicit logic model for their applications and would, therefore, experience only minimal paperwork burden associated with explaining it in their applications.

Finally, proposed priority 6 would allow the Department to give priority to applications that propose data collection after the original project period. We believe that this would result only in transfers between applicants that do not propose post-project data collection and the grantees that benefited from this priority, since the proposed priority would not require a grantee to fund the data collection itself. Rather, at the completion of a project period, the Department would make data collection awards under existing authority to do so. As with proposed priorities 1 and 2, because this proposed priority would neither expand nor restrict the universe of eligible entities for any Department grant program, and since application submission and participation in our discretionary grant programs is voluntary, we do not think that it would be appropriate to characterize any participation in data collection awards as costs associated with this regulation. However, it is possible that, in electing to provide data collection grants to a particular cohort of grantees, the Department would have fewer funds available to fund new awards. At this time, absent specific funding scenarios, it is not possible to predict the specific costs related to shifts from new awards to data collection awards. Longitudinal data are valuable as a resource for practitioners, researchers, and the Department. Therefore, providing grants to allow for extended data collection would likely benefit the field as a whole, including by providing better evidence about what works and what does not. Absent a particular context, it is not feasible to calculate a specific benefit, but we anticipate benefits related to better information about program effects.

Regulatory Flexibility Act Certification

The Secretary certifies that this proposed regulatory action would not have a significant economic impact on a substantial number of small entities. The U.S. Small Business Administration Size Standards define proprietary institutions as small businesses if they are independently owned and operated, are not dominant in their field of operation, and have total annual revenue below $7,000,000. Nonprofit institutions are defined as small entities if they are independently owned and operated and not dominant in their field of operation. Public institutions are defined as small organizations if they are operated by a government overseeing a population below 50,000.

Of the impacts we estimate accruing to grantees or eligible entities, all are voluntary and related mostly to an increase in the number of applications prepared and submitted annually for competitive grant competitions. Therefore, we do not believe that the proposed priorities would significantly impact small entities beyond the potential for increasing the likelihood of their applying for, and receiving, competitive grants from the Department.

Paperwork Reduction Act

The proposed priorities do not contain any information collection requirements.

Intergovernmental Review: This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Accessible Format: Individuals with disabilities can obtain this document in an accessible format (e.g., Braille, large print, audiotape, or compact disc) on request to the program contact person listed under FOR FURTHER INFORMATION CONTACT.

Electronic Access to This Document: The official version of this document is the document published in the Federal Register. You may access the official edition of the Federal Register and the Code of Federal Regulations at www.govinfo.gov. At this site you can view this document, as well as all other documents of the Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Dated: November 22, 2019.
Betsy DeVos,
Secretary.

[FR Doc. 2019-25765 Filed 11-27-19; 8:45 am]

BILLING CODE 4000-01-P